DEPARTMENT OF AGRICULTURE

Submission for OMB Review; Comment Request

October 8, 2003

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Office for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Foreign Agricultural Service

Title: Pub. L. 480, Title I Financing and Record Keeping.

OMB Control Number: 0551-0005.

Summary of Collection: The Foreign Agricultural Service (FAS) is responsible for administering Public Law 480, Title I agreements, as amended. This regulation provides for the financing of sales of U.S. agricultural commodities to recipients of foreign countries or private entities. In accordance with the law, an agreement providing for long-term credit financing is first negotiated with the recipient through diplomatic channels. After an agreement has been signed, the recipient applies to FAS for authorization to purchase each commodity provided in the agreement. At least 75 percent of the gross tonnage of commodities purchased under Title I must be shipped on privately owned U.S. flag commercial vessels to the extent such vessels are available at fair and reasonable rates. If ocean transportation is required to a country where there is no U.S. flag vessel coverage, a foreign vessel will be used at its prevailing rate. The recipient must send the pertinent terms of all proposed ocean freight contracts, regardless of whether any portion of the ocean freight is financed by CCC, to FAS for review and approval before the vessel is contracted.

Need and Use of the Information: FAS will collect information to insure that (1) suppliers keep accurate records on Title I transactions; (2) suppliers permit access to authorized USDA representatives (such as auditors and investigators); and, (3) suppliers retain records for three years after final payment. FAS will review and evaluate the information to ensure that there are no potential conflicts of interests and ensure that the sales price is within the prevailing range of export market prices. Without the information, FAS could not ensure program compliance.

Description of Respondents: Business or other for-profit.

Number of Respondents: 25.

Frequency of Responses: Recordkeeping; Reporting; On occasion.

Total Burden Hours: 47.

Farm Service Agency

Title: Agricultural Foreign Investment Disclosure Act Report.

OMB Control Number: 0560-0097.

Summary of Collection: The Agricultural Foreign Investment Disclosure Act (AFIDA) requires foreign investors to report to the U.S. Department of Agriculture (USDA) in a timely manner all held, acquired, or transferred U.S. agricultural land. The Secretary of Agriculture has delegated authority for the collection of this information to the Farm Service Agency (FSA). Foreign investors may obtain form FSA-153, AFIDA Report, from their local FSA county office or from the FSA Internet site. Investors are required to file report within 90 days of the acquisition, transfer, or change in the use of their land.

Need and Use of the Information: The information collected from the AFIDA Reports is used to monitor the effect of foreign investment upon family farms and rural communities and in the preparation of a voluntary report to Congress and the President. Congress reviews the report and decides if regulatory action is necessary to limit the amount of foreign investment in U.S. agricultural land. If this information was not collected, USDA could not effectively monitor foreign investment and the impact of such holdings upon family farms and rural communities.

Description of Respondents: Business or other for-profit; Individuals or households; Farms.

Number of Respondents: 4,375.

Frequency of Responses: Reporting: on occasion.

Total Burden Hours: 904.

Farm Service Agency

Title: Farm storage Facility Loan Program.

OMB Control Number: 0560-0204.

Summary of Collection: 7 CFR 1436 authorizes the Farm Service Agency (FSA) to administer the Commodity Credit Corporation (CCC) Farm Storage Facility Loan Program (FSFLP). The regulations provide terms and conditions in which CCC may provide low-cost financing for producers to build or upgrade on-farm storage and handling facilities. Producers requesting loans must provide information regarding the need for farm storage capacity and the storage facility they propose to construct. The information is needed to determine if the farmer has a need for the proposed capacity and the proposed structure.

Need and Use of the Information: FSA will collect information from producers to establish eligibility for the program and to determine that the structure proposed is not in conflict with local land use laws. The information is needed by CCC to make loans to farmers who have a bona fide storage need and to make loans that will be repaid on time. If the information is not collected, the producer may not receive the full benefits of the program.

Description of Respondents: Farms; Individuals or households; Business or other for-profit; State, Local or Tribal Government.

Number of Respondents: 2,000.

Frequency of Responses: Reporting: Other (once).

Total Burden Hours: 3,985.

Animal and Plant Health Inspection Service

Title: Specimen Submission.

OMB Control Number: 0579-0090.

Summary of Collection: Under the authority of Title 21, U.S.C., the Secretary of Agriculture is permitted to prevent, control and eliminate domestic diseases such as tuberculosis, as well as to take actions to prevent and to manage exotic diseases such as hog cholera, African swine fever, and other foreign diseases. The National Veterinary Services Laboratories cannot accomplish disease prevention without the existence of an effective disease surveillance program, which includes disease testing. Information is collected on each animal specimen submitted for analysis by the Animal and Plant Health Inspection Service (APHIS) using form VS 10-4, “Specimen Submission”.

Need and Use of the Information: The form VS 10-4 used by State or Federal veterinarians documents the collections and submissions of specimens for laboratory analysis. In addition, the form identifies the individual animal from which the specimen is taken as well as the animal's herd or flock; the type of specimen submitted, and the purpose of submitting the specimen. Without the information contained on this form, personnel at the National Veterinary Services laboratories would have no way of identifying or processing the specimens sent to them for analysis.

Description of Respondents: State, Local or Tribal Government; Farms.

Number of Respondents: 12,000.

Frequency of Responses: Reporting: on occasion.

Total Burden Hours: 9,000.

Animal and Plant Health Inspection Service

Title: TB in Cattle and Bison, State Designations: California.

OMB Control Number: 0579-0220.

Summary of Collection: Under the authority of Title 21, U.S.C., the Secretary of Agriculture is permitted to prevent, control and eliminate domestic diseases such as tuberculosis, as well as to take actions to prevent and to manage exotic diseases such as foot-and-mouth, rinderpest, and other foreign diseases. Disease prevention is the most effective method for maintaining a healthy animal population and enhancing the ability of U.S. producers to compete in the global market of animal and animal product trade. An interim rule was published to remove California from the list of accredited free States and add it to the list of modified accredited advanced States. This action is to help prevent the spread of tuberculosis from California to other areas of the United States. Cattle moving interstate from California will need to be officially identified via premises of origin identification (ear tags).

Needs and Use of the Information: Certain herd owners in California moving their cattle interstate will need to affix ear tags to these animals prior to movement. The ear tags will identify the animal to its herd of origin, and will be useful to the Animal and Plant Health Inspection Service in the event that a trace-back investigation must be conducted. Without the information, it would be impossible to effectively monitor the interstate movement of cattle from California or to conduct a successful trace-back investigation if any animal is diagnosed with tuberculosis following interstate movement.

Description of Respondents: Farms; Individuals or households.

Number Respondents: 600.

Frequency of Responses: Reporting: On Occasion.

Total Burden Hours: 960.

Animal and Plant Health Inspection Service

Title: TB in Cattle and Bison, State Designations: New Mexico.

OMB Control Number: 0579-0229.

Summary of Collection: Bovine tuberculosis is a contagious, infectious, and communicable disease caused by Mycobacterium bovis. It affects cattle, bison, deer, elk, goats, and other species, including humans. Bovine tuberculosis in infected animals and humans manifests itself in lesions of the lung, bone, and other body parts, causes weight loss and general debilitation, and can be fatal. Recently, two tuberculosis-infected herds were detected in New Mexico; an interim rule was published to remove New Mexico from the list of accredited-free State to the list of modified accredited advanced states. The Animal and Plant Health Inspection Service (APHIS) took this action to help prevent the spread of bovine tuberculosis from New Mexico to other areas of the United States. Authority for engaging in disease containment activities associated with tuberculosis is contained in Part 77 of Title 9, CFR.

Need and Use of the Information: Certain herd owners in New Mexico moving their cattle interstate will need to affix ear tags to these animals prior to movement. The ear tags will identify the animal to its herd of origin and will be useful to APHIS in the event that a trace-back investigation must be conducted. Without the information, it would be impossible to effectively monitor the interstate movement of cattle or bison from New Mexico or to conduct a successful trace-back investigation if any animal is diagnosed with tuberculosis following interstate movement.

Description of Respondents: Farms; Individuals or households; Federal Government.

Number of Respondents: 375

Frequency of Responses: Reporting: On occasion

Total Burden Hours: 600.

Food Safety and Inspection Service

Title: Pathogen Reduction and Hazard Analysis and Critical Control Point (HACCP) Requirements.

OMB Control Number: 0583-0103.

Summary of Collection: The Federal Meat Inspection Act (FMIA) (21 U.S.C. 601) and the Poultry Products Inspection Act (PPIA) (21 U.S.C. 451 mandate that the Food Safety and Inspection Service (FSIS) protect the public by ensuring the meat and poultry products are safe, wholesome, unadulterated, and properly labeled and packaged. FSIS has begun to build the principle of prevention into its inspection program and requires regulated establishments to prepare operating plans and continuously report performance against the plans.

Need and Use of the Information: Information will be collected from establishments as proof that standard operating plans have been developed. Additionally, information must be reported and pertinent records maintained on the occurrence and numbers of pathogenic microorganisms on meat and poultry products. FSIS will use this information during the inspection process to determine whether an establishment should change its operating procedures so that the public's health is protected.

Description of Respondents: Business or other for-profit.

Number of Respondents: 8,114.

Frequency of Responses: Recordkeeping; Reporting: On occasion; Other (daily).

Total Burden Hours: 7,463,679.

Food and Nutrition Service

Title: Worksheet for Food Stamp Program Quality Control Reviews.

OMB Control Number: 0584-0074.

Summary of Collection: State agencies are required to perform Quality Control Reviews for the Food Stamp Program in conjunction with section 16 of the Food Stamp Act of 1977. The food stamp worksheet (FNS-380) provides a systematic means of aiding the State agency's quality control reviewer in analyzing household case record; planning and carrying out the field investigations; and gathering, comparing, analyzing and evaluating the review data. Relevant information from the case record, and documentation about individual cases is recorded on the FNS-380.

Need and Use of the Information: The Food and Nutrition Service (FNS) will use the information from the FNS-380 to record identifying information about the household and to also document and evaluate each step of the field investigation process to determine eligibility and payment amounts under FNS' approved State agency practices.

Description of Respondents: State, Local, or Tribal Government; Federal Government; individuals or households.

Number of Respondents: 53.

Frequency of Responses: Recordkeeping; Reporting: On occasion; Annually.

Total Burden Hours: 519,679.

Forest Service

Title: Youth Conservation Corps Application & Medical History Forms.

OMB Control Number: 0596-0084.

Summary of Collection: Under Pub. L. 93-408, the Youth Conservation Corps Act (YCC), the Forest Service provides seasonal employment for eligible youth 15 to 18 years old. As part of this effort, the Forest Service collects information from applicants to evaluate their eligibility for employment with the agency through the program. Each eligible youth, who wish to apply and be considered for employment in the YCC program must submit an application form (FS 1800-18). This is a seasonal program requiring new submission by applicants each year. Selected participants must complete the medical history form and their parent or guardian must sign. This is necessary to certify the youth's physical fitness to serve in the YCC program.

Need and Use of the Information: All candidates interested in participating in the YCC program must complete an application. Those applicants, selected at random, complete the form FS 1800-3, Youth Conservation Corps Medical History, which provides information needed to determine certification of suitability, any special medical or medication needs, and a file record to protect both the Federal Government and individuals. If not used, the government's liability risk is high, special needs of one individual may not be known, or the screening of an applicant's physical suitability would be greatly inhibited.

Description of Respondents: Individuals or households.

Number of Respondents: 18,000.

Frequency of Responses: Reporting: On occasion.

Total Burden Hours: 6,000.

Forest Service

Title: Agreement to Initiate (ATI) and Exchange Agreement (EA)

OMB Control Number: 0596-0105.

Summary of Collection: Land exchanges are an important tool to consolidate landownership for purposes of more efficient management; to secure important Forest Plan objectives of resource management, enhancement, development, and protection; and to fulfill other public needs such as acquiring lands important for such resources as fisheries habitat, wild and scenic rivers, wildlife habitat, and wilderness. A land exchange is where the United States has identified either federal land or federal interest in land available for exchange and a non-Federal party has identified either private land or private interest in land they are interested in exchanging. The primary authorities used to perform land exchanges involving National Forest Systems lands include the General Exchange Act, the Weeks Act, the Federal Land Policy and Management Act and the Federal Land Exchange Facilitation Act.

Need and use of the Information: The Forest Service (FS) will collect information by phone, in face-to-face meetings, or by mail. FS will also collect information such as the identification of the non-Federal land exchange parties; the description of the lands and interests to be exchanged, such as roads; the identification of all reserve and outstanding interests, such as roads, minerals, and easements; and all other terms and conditions necessary to complete exchange. To not collect the information would mean the land exchange was dropped.

Description of Respondents: Business or other for-profit; Individuals or households; State, Local or Tribal Government.

Number of Respondents: 100.

Frequency of Responses: Reporting: On occasion.

Total Burden Hours: 200.

National Agricultural Statistics Service

Title: Honey Survey.

OMB Control Number: 0535-0153.

Summary of Collection: The National Agricultural Statistics Service (NASS) primary function is to prepare and issue State and national estimates of crop and livestock production. General authority for these data collection activities is granted under U.S. Code Title 7, section 2204. Domestic honeybees are critical to the pollination of U.S. crops, especially fruits and vegetables. Africanized bees, parasites, diseases, and pesticides threaten the survival of bees. Programs are provided by federal, State and local governments to assist in the survival of bees and to encourage beekeepers to maintain bee colonies

Need and Use of the Information: NASS will collect information on the number of colonies, honey production, stocks, and prices. The survey will provide data needed by the Department and other government agencies to administer programs and to set trade quotas and tariffs. Without the information, the agricultural industry would not be aware of changes at the State and national level.

Description of Respondents: Farms.

Number of Respondents: 7,041.

Frequency of Responses: Reporting: Annually.

Total Burden Hours: 1,096.

Rural Business Service

Title: Intermediary Re-lending Program.

OMB Control Number: 0570-0021.

Summary or Collection: The objective of the Intermediary Relending Program (IRP) is to improve community facilities and employment opportunities and increase economic activities in rural areas by financing business facilities and community development. This purpose is achieved through loans made by the Rural Business-Cooperative Service (RBS) to intermediaries that establish programs for the purpose of providing loans to ultimate recipients for business facilities and community development. The Food Security Act of 1985 provides USDA with the authority to make loans to nonprofit entities who will in turn provide financial assistance to rural businesses to improve business, industry and employment opportunities as well as provide a diversification of the economy in rural areas.

Need and Use of the Information: The information requested is necessary for RBS to process applications in a responsible manner, make prudent credit and program decisions, and effectively monitor the intermediaries' activities to protect the Government's financial interest and ensure that funds obtained from the Government are used appropriately. Various forms are used to identify the intermediary, describe the intermediary's experience and expertise, describe how the intermediary will operate its revolving loan fund, provide for debt instruments, loan agreements, security, and other material necessary for prudent credit decisions and reasonable program monitoring.

Description of Respondents: Not-for-profit institutions; Individuals or households; Business or other for-profit.

Number of Respondents: 160.

Frequency of Responses: Reporting: On occasion.

Total Burden Hours: 16,930.

Rural Business-Cooperative Service

Title: University Value-Added Research Grant.

OMB Control Number: 0570-0046.

Summary of Collection: The Farm Security and Rural Investment Act of 2002 (Pub. L. 107-171) authorizes the Secretary of the Department of Agriculture to use $300,000 to support research at a university concerning the effects of projects for value-added agricultural commodities or products on agricultural producers and the commodity markets. The Rural Business-Cooperative Service (RBS) will administer this grant. RBS will collect information from applicants who must be an accredited university. The university may contract with other parties to contribute expertise or proprietary data that would not otherwise be available to the research effort.

Need and Use of the Information: RBS will use the information to confirm that an applicant meets the eligibility requirements and that the research proposals are consistent with the purposes set forth in the statute. The information is also used to make a competitive evaluation and rank the proposals in order to determine the grant award. Information considered by the reviewers in ranking the proposals are (1) the nature of the proposed research, (2) qualifications of the researchers, (3) work plan and research budget and (4) measures to evaluate the effectiveness of value-added projects.

Description of Respondents: Business or other for-profit.

Number of Respondents: 15.

Frequency of Responses: Recordkeeping; Reporting: On occasion; Quarterly; Semi-annually.

Total Burden Hours: 479.

Rural Utilities Service

Title: 7 CFR Part 1721, Extensions of Payments of Principal and Interest.

OMB Control Number: 0572-0123.

Summary of Collection: Rural Utilities Service (RUS) is revising procedures and conditions under which borrowers may request extensions of the payment of principal and interest. RUS electric program provides loans and loan guarantees to borrowers at interest rates and on terms that are more favorable than those generally available from the private sector. As a result of obtaining federal financing, RUS borrowers receive economic benefits that exceed any direct economic costs associated with complying with (RUS) regulations and requirements. The authority, as amended, for these extensions is contained in Section 12 of the Rural Electrification Act of 1936, and section 236 of the “Disaster Relief Act of 1970.”

Need and Use of the Information: The collection of information occurs only when the borrower requests an extension of principal and interest. Eligible purchases include financial hardship energy resource conservation loans, renewable energy project, and contributions-in-aid of construction. The collections are made to provide needed benefits to borrowers while also maintaining the integrity of RUS loans and their repayment of taxpayer's monies.

Description of Respondents: Not for-profit institutions.

Number of Respondents: 94.

Frequency of Responses: Reporting: On occasion.

Total Burden Hours: 816.

Rural Utilities Service

Title: 7 CFR Part 1738, Rural Broadband Access.

OMB Control Number: 0572-0130.

Summary of Collection: The Rural Utilities Service (RUS) amended its regulation in order to establish the Rural Broadband Access Loan and Loan Guarantee Program. Title VI, Rural Broadband Access, amended The Rural Electrification Act of 1936 (RE Act), to provide loans and loan guarantees to fund the cost of construction, improvement, or acquisition of facilities and equipment for the provision of broadband service in eligible rural communities in State and territories of the United States. The regulation prescribes the types of loans available, facilities financed and eligible applicants, as well as minimum credit support requirements considered for a loan. In addition, Title VI of the RE Act requires that Rural Utilities Service (RUS) make or guarantee a loan only if there is reasonable assurance that the loan, together with all outstanding loans and obligations of the borrower, will be repaid in full within the time agreed.

Need and Use of the Information: RUS will collect information to determine whether an applicant's eligibility to borrow from RUS under the terms of the RE Act and that the applicant complies with statutory, regulatory and administrative eligibility requirements for loan assistance. RUS will use the information to determine that the Government's security for loans made are reasonable adequate and that the loans will be repaid within the time agreed.

Description of Respondents: Business or other for-profit; Not-for-profit institutions.

Number of Respondents: 300.

Frequency of Responses: Reporting: On occasion.

Total Burden Hours: 28,475.

Farm Service Agency

Title: Noninsured Crop Disaster Assistance Program.

OMB Control Number: 0560-0175.

Summary of Collection: The collection of crop planting and production data is necessary for the Commodity Credit Corporation (CCC) to calculate the producer's approved yield on the basis of actual production history. Information collection relative to the occurrence of crop damage or loss production and application for Noninsured Crop Disaster Assistance Program (NAP) is necessary for CCC to accept and consider a request for assistance under NAP and to facilitate eligibility determinations. NAP provides eligible producers of eligible crops with protection to the catastrophic risk protection plan of crop insurance. It helps reduce production risks faced by producers of crops for which Federal crop insurance is not available. It also reduces financial losses that occur when natural disasters cause a catastrophic loss of production or prevented planting of an eligible crop. The Farm Service Agency (FSA) will collect information using several forms.

Need and Use of the Information: FSA will collect the producer's name, address identification number, farm and tract, acreage, ownership, location, crop history, planted acreage, production, yield, share, etc. The information will be used to identify eligible NAP participants, acreage and location, crop and commodities. If information is not collected, FSA will not be able to identify and determine eligible participants and crops being planted or produced, or provide assistance to agricultural producers who as a result of natural disaster have suffered catastrophic losses of agricultural crops or commodities.

Description of Respondents: Individuals or household; Business or other for-profit; Not-for-profit institutions; Farms; State, local or tribal government.

Number of Respondents: 291,500.

Frequency of Responses: Recordkeeping; Reporting: On occasion; Weekly; Monthly; Other (bi-weekly and bi-monthly); Third party disclosure.

Total Burden Hours: 2,143,562.

Agricultural Research Service

Title: Peer Review Related Forms for the Office of Scientific Quality Review.

OMB Control Number: 0518-0028.

Summary of Collection: The Office of Scientific Quality Review (OSQR) is an organizational unit of the Agricultural Research Service (ARS) reporting to the Associate Administrator with primary responsibility for planning and facilitating high quality scientific and technical peer review of all agency prospective research project plans. The Research Title of the 1998 Farm Bill, Pub. L. 105-185 section 103(d), set forth new requirements for peer reviews of ARS research projects. ARS must obtain panel peer reviews of each research project at least once every five years.

Need and Use of the Information: ARS will collect the following information: Confidentiality agreement, panelist information, peer review of an ARS research project, critique of ARS research project, panelist expense report, and panelist invoice. The information is used to manage the travel and stipend payments to panel reviewers and provide well-organized feedback to ARS's researchers about their projects. If information were not collected, ARS would not meet the administrative or legislative requirements of the Peer Review Process as mandated by Public Law 105-185.

Description of Respondents: Not-for-profit institutions; Business or other for-profit; Individuals or households; Farms; Federal Government; State, local or tribal government.

Number of Respondents: 135.

Frequency of Responses: Reporting: Quarterly; Weekly; Annually.

Total Burden Hours: 3,407.

Rural Housing Service

Title: 7 CFR 1956-C, Debt Settlement—Community and Business Programs.

OMB Control Number: 0575-0124.

Summary of Collection: Rural Housing Service (RHS) is a credit agencies for agricultural and rural development for the United States Department of Agriculture and offers supervised credit to develop improve and operate family farms, modest housing, essential community facilities, and business and industry across rural America. 7 CFR 1956-C, Debt Settlement—Community and Business Programs provides policies and procedures as well as a mechanism for debt settlement in connection with Community Facilities loans and grants, Water and Waste Disposal loans, direct Business and Industry loans, Indian Tribal Land Acquisition loans and Irrigation and Drainage. The debt settlement program provides the delinquent client with an equitable tool for the compromise, adjustment, cancellation, or charge-off of a debt owed to the Agency.

Need and Use of the Information: The field offices will collect information from applicants, borrowers consultants, lenders, and attorneys to determine eligibility, financial capacity and derive an equitable resolution. This information collected is similar to that required by a commercial lender in similar circumstances. Failure to collect the information could result in improper servicing of these loans.

Description of Respondents: Not for profit institutions; Individuals, Households; Business or other for-profit; State, Local or Tribal Government.

Number of Respondents: 15.

Frequency of Responses: Reporting: On occasion.

Total Burden Hours: 813.

Rural Business—Cooperative Service

Title: CFG 1942-G, “Rural business Enterprise Grants and Television Demonstration Grants”.

OMB Control Number: 0570-0022.

Summary of Collection: Section 310B of the Consolidated Farm and Rural Development Act authorizes Rural Business Enterprise Grants to facilitate the development of small and emerging private businesses, industry and related employment for improving the economy in rural communities. Television Demonstration Grants (TDG) are available to statewide, private nonprofit, public television systems to provide information on agriculture and other issues of importance to farmers and other rural residents. This regulation, 7 CFR Part 1942-G, Rural Business-Cooperative Service (RBS) that covers the administration of this program including eligibility requirements and evaluation criteria to make funding selection decisions.

Need and Use of the Information: RBS will use this information to determine (1) eligibility; (2) the specific purposes for which grant funds will be utilized; (3) time frames or dates by which actions surrounding the use of funds will be accomplished; (4) who will be carrying out the purposes for which the grant is made; (5) project priority; (6) applicants experience in administering a rural economic development program; (7) employment improvement; and (8) mitigation of economic distress of a community through the creation or salvation of jobs or emergency situations. If the information were not collected, RBS would not be able to determine the eligibility of applicant(s) for the authorized purposes. Collecting this information infrequently would have an advertise effect on the Agency's ability to administer the grant program.

Description of Respondents: Individuals or households; Farms; Business or other for profit; Federal Government.

Number of Respondents: 720.

Frequency of Responses: Record-keeping; Reporting: Monthly; On Occasion; Quarterly.

Total Burden Hours: 22,395.

Animal and Plant Health Inspection Service

Title: Tuberculosis Testing for Imported Cattle.

OMB Control Number: 0579-0224.

Summary of Collection: Under the authority of Title 21, U.S.C., the Secretary of Agriculture is permitted to prevent, control and eliminate domestic diseases such as tuberculosis, as well as to take actions to prevent and to manage exotic diseases such as foot-and-mouth, rinderpest, and other foreign diseases. Disease prevention is the most effective method for maintaining a healthy animal population and enhancing the ability of U.S. producers to compete in the global market of animal and animal product trade. The Animal and Plant Health Inspection Service (APHIS) published an interim rule that added additional requirements concerning the importation of certain cattle into the United States. APHIS will collect information using form VS 17-129, “Application for Import or In Transit Permit.”

Need and Use of the Information: APHIS will collect information from the permit application regarding the type, number, and identification of the animals to be exported to the United States, as well as information concerning the origin, intended date and location of arrival, routes of travel, and destination of the animals. APHIS will also collect information that certified that the herd in which the cattle was born and raised has tested TB-negative to a whole herd test. Failure to collect this information would make it impossible for APHIS to effectively evaluate the TB risks associated with cattle importation from Mexico, thereby increasing the likelihood that healthy cattle and bison throughout the United states will be exposed to tuberculosis.

Description of Respondents: Business or other for-profit; Farms.

Number of Respondents: 100.

Frequency of Responses: Reporting: On occasion.

Total Burden Hours: 15,000.

Food Safety and Inspection Service

Title: Registration Requirements.

OMB Control Number: 0583-NEW.

Summary of Collection: This information collection requests new burden hours for regulatory reporting requirements associated with the registration of meat brokers, poultry products brokers, renders, animal food manufactures, wholesalers, warehousemen, and persons that engage in the business of buying, selling, transporting in commerce, or importing, any dead, dying, disabled, or diseased livestock or poultry, or parts of the carcasses of livestock or poultry that have died otherwise than by slaughter. The Food Safety and Inspection Service (FSIS) has been delegated the authority to exercise the functions of the Secretary as provided in the Federal Meat Inspection Act (FMIA) (21 U.S.C. 601 et seq.) FSIS will collect information using FSIS Form 5020-1, “Registration of Meat and Poultry Handlers”.

Need and Use of the Information: FSIS will collect information using FSIS 5020-1, ensuring that all meat and poultry establishments produce safe, wholesome, and unadulterated product, and properly labeled and packaged. If the information were not collected, it would reduce the effectiveness of the meat and poultry inspection program.

Description of Respondents: Business or other for-profit.

Number of Respondents: 9,125.

Frequency of Responses: Recordkeeping; Reporting: Other (Once).

Total Burden Hours: 1,521.

Sondra Blakey,
Departmental Information Collection Clearance Officer.

[FR Doc. 03-25880 Filed 10-10-03; 8:45 am]

BILLING CODE 3410-01-M